DEPARTMENT OF AGRICULTURE

Forest Service

Notice of New Recreation Fee Site; Federal Lands Recreation Enhancement Act, (Title VIII, Pub. L. 108-447)

AGENCY: Homochitto National Forest, USDA Forest Service.

ACTION: Notice of new recreation fee site.

SUMMARY: Okhissa Lake is a recreational complex currently under development on the Homochitto National Forest, located near Bude, Mississippi. The lake will open for use by the public for boating and fishing between July and November 2007. The exact opening date will depend on completing work on infrastructure needed to support fishing (restrooms, boat launch, parking lots, etc.). Other recreational day-use activities (swimming, picnicking) will be available later as amenities to accommodate them are added. The Forest Service proposes to charge $5 per vehicle for access to all day-use activities (boat launching, swimming, and picnicking). Fees will not be charged until infrastructure needed to support an activity is available for use by the public. A $50 annual pass will also be available for purchase by the public. The annual pass would allow 12-month access to all day-use activities (boat launching, swimming, and picnicking). Opportunities for developed and primitive camping will be available in the future as work needed to accommodate these activities is complete. When available, the Forest Service will charge $13 for developed camping and $7 for primitive camping. Funds received from these fees will be used for continued operation and maintenance of the recreational complex and allow additional amenities to be added in the future. Funds will also be used to enhance or restore fisheries habitat of the lake.

DATES: Recreational boating and fishing opportunities at Okhissa Lake will be available to the public between July and November 2007. Other recreational activities described above will be available as infrastructure to support them is added.

FOR FURTHER INFORMATION CONTACT: Jeff Gainey, Recreation Program Manager, 601-965-1617, National Forests in Mississippi, 100 West Capitol Street, Suite 1141, Jackson, MS 39269.

SUPPLEMENTARY INFORMATION: The Federal Recreation Lands Enhancement Act (Title VII, P.L. 108-447) directed the Secretary of Agriculture to publish advance notice in the Federal Register whenever new recreation fee areas are established. The Homochitto National Forest currently manages only one other developed recreation site that provides camping, fishing and other day-use activities. Comparable recreational use fees are currently charged at this site. Development of Okhissa Lake and associated facilities are aimed at creating new recreational opportunities in an area that is economically depressed.

Dated: November 7, 2006.
Antoine L. Dixon,
Forest Supervisor, National Forest in Mississippi.

[FR Doc. 06-9260 Filed 11-17-06; 8:45 am]

BILLING CODE 3410-11-M